DEPARTMENT OF COMMERCE

International Trade Administration

[C-427-603]

Final Results of Full Sunset Review: Brass Sheet and Strip from France

AGENCY: Import Administration, International Trade Administration, Department of Commerce.

SUMMARY: On April 1, 2005, the Department of Commerce (“the Department”) initiated a sunset review of the countervailing duty order (“CVD”) on brass sheet and strip from France pursuant to section 751(c) of the Tariff Act of 1930, as amended (“the Act”). On the basis of a notice of intent to participate and an adequate substantive response filed on behalf of the domestic interested parties and an adequate response from respondent interested parties, the Department determined to conduct a full sunset review of this CVD order pursuant to section 751(c) of the Act and 19 CFR 351.218(e)(2). As a result of this sunset review, the Department finds that revocation of the CVD order would not be likely to lead to continuation or recurrence of a countervailable subsidy. Therefore, the Department is revoking this CVD order.

EFFECTIVE DATE: March 2, 2006.

FOR FURTHER INFORMATION CONTACT: Darla Brown or David Goldberger, AD/CVD Operations, Import Administration, International Trade Administration, U.S. Department of Commerce, 14th Street & Constitution Avenue NW., Washington, DC 20230; telephone: (202) 482-2849 or (202) 482-4136, respectively.

SUPPLEMENTARY INFORMATION:

Background

On April 1, 2005, the Department initiated a sunset review of the CVD order on brass sheet and strip from France pursuant to section 751(c) of the Act. See Notice of Initiation of Five-Year (“Sunset”) Reviews, 70 FR 16800 (April 1, 2005).

On October 25, 2005, the Department published the preliminary results of the full sunset review of the instant order. See Preliminary Results of Full Sunset Review: Brass Sheet and Strip from France, 70 FR 61604 (October 25, 2005). Interested parties were invited to comment on our preliminary results. On December 7, 2005, we received case briefs from the Government of France and the European Union. On December 12, 2005, we received rebuttal briefs from domestic interested parties.

Scope of the Order

The merchandise subject to the CVD order is coiled, wound-on-reels (traverse wound), and cut-to-length brass sheet and strip (not leaded or tinned) from France. The subject merchandise has, regardless of width, a solid rectangular cross section over 0.0006 inches (0.15 millimeters) through 0.1888 inches (4.8 millimeters) in finished thickness or gauge. The chemical composition of the covered products is defined in the Copper Development Association (“C.D.A.”) 200 Series or the Unified Numbering System (“U.N.S.”) C2000; this order does not cover products with chemical compositions that are defined by anything other than C.D.A. or U.N.S. series. The merchandise is currently classifiable under Harmonized Tariff Schedule (“HTS”) item numbers 7409.21.00 and 7409.29.00. The HTS item numbers are provided for convenience and customs purposes. The written description remains dispositive.

Analysis of Comments Received

All issues raised in this review are addressed in the Issues and Decision Memorandum (“Decision Memorandum”) from Stephen J. Claeys, Deputy Assistant Secretary for Import Administration, to David M. Spooner, Assistant Secretary for Import Administration, dated February 22, 2006, which is hereby adopted by this notice. Parties can find a complete discussion of all issues raised in this review and the corresponding recommendation in this public memorandum which is on file in the Central Records Unit, room B-099 of the main Commerce building. In addition, a complete version of the Decision Memorandum can be accessed directly on the Web at http://ia.ita.doc.gov/frn. The paper copy and electronic version of the Decision Memorandum are identical in content.

Final Results of Review and Revocation

The Department determines that revocation of the CVD order would not be likely to lead to continuation or recurrence of a countervailable subsidy. As a result, we are revoking this order, effective May 1, 2005, the fifth anniversary of the date of publication in the Federal Register of the notice of continuation (see 65 FR 25304 (May 1, 2000)). We will notify the International Trade Commission of these results. Furthermore, we will instruct U.S. Customs and Border Protection to terminate suspension of liquidation, effective May 1, 2005.

Notification Regarding Administrative Protective Order

This notice serves as the only reminder to parties subject to administrative protective order (“APO”) of their responsibility concerning the return or destruction of proprietary information disclosed under APO in accordance with 19 CFR 351.305. Timely notification of return/destruction of APO materials or conversion to judicial protective order is hereby requested. Failure to comply with the regulations and the terms of an APO is a sanctionable violation.

We are issuing and publishing these results and notice in accordance with sections 751(c), 752, and 777(i)(1) of the Act.

Dated: February 22, 2006.
David M. Spooner,
Assistant Secretary for Import Administration.

[FR Doc. E6-2926 Filed 3-1-06; 8:45 am]

BILLING CODE 3510-DS-S